DEPARTMENT OF HOUSING AND URBAN DEVELOPMENT

[Docket No. FR-5300-FA-30]

Announcement of Funding Awards for Fiscal Year 2009; Historically Black Colleges and Universities Program

AGENCY: Office of the Assistant Secretary for Policy Development and Research, HUD.

ACTION: Announcement of funding awards.

SUMMARY: In accordance with section 102(a)(4)(C) of the Department of Housing and Urban Development (HUD) Reform Act of 1989, this document notifies the public of funding awards for Fiscal Year (FY) 2009 Historically Black Colleges and Universities Program. The purpose of this document is to announce the names, addresses and the amount awarded to the winners to be used to help Historically Black Colleges and Universities (HBCUs) expand their role and effectiveness in addressing community development needs in their localities, consistent with the purposes of Title I of the Housing and Development Act of 1974, as amended.

FOR FURTHER INFORMATION CONTACT: Susan Brunson, Office of University Partnerships, U.S. Department of Housing and Urban Development, Room 8226, 451 Seventh Street, SW., Washington, DC 20410, telephone (202) 402-3852. To provide service for persons who are hearing- or speech-impaired, this number may be reached via TTY by dialing the Federal Information Relay Service on 800-877-8339 or 202-708-1455. (Telephone number, other than “800” TTY numbers are not toll free).

SUPPLEMENTARY INFORMATION: The Historically Black Colleges and Universities Program was approved by the Appropriations Act, 2009 (Pub. L. 111-8, approved March 11, 2009) and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation, property demolition or acquisition, public facilities, economic development, business entrepreneurship, and fair housing programs.

The Catalog of Federal Domestic Assistance number for this program is 14.520.

On June 25, 2009, a Notice of Funding Availability (NOFA) was posted on Grants.gov announcing the availability of approximately $9 million for funding grants under this program. The maximum amount an applicant could be awarded this year is $800,000 for a three-year (36 months) grant performance period.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org.

List of Awardees for Grant Assistance Under The FY 2009 Historically Black Colleges and Universities Program Funding Competition, by Institution, Address, and Grant Amount

Region III

1. Howard University, Dr. Rodney D. Green, Howard University, 2400 Sixth Street, NW. Washington, DC 20059. Grant: $463,960.

Region IV

2. Winston-Salem State University, Ms. Valerie Howard, Winston-Salem State University, 601 South Martin Luther King, Jr. Drive, Winston-Salem, NC 27110. Grant: $724,687.

3. Elizabeth City State University, Morris Autry, Elizabeth City State University, 1704 Weeksville Road, Elizabeth City, NC 27909. Grant: $800,000.

4. Hinds Community College-Utica Campus, Bobby Pamplin, Hinds Community College-Utica Campus, 34175 Hwy 18 West, Utica MS 39175. Grant: $713,529.

5. Benedict College, Larry Salley, Benedict College, 1600 Harden Street, Columbia, SC, 29204-1086. Grant: $800,000.

6. South Carolina State University, Merylin Jackson, South Carolina State University, 300 College Street, Orangeburg, SC 29117. Grant: $800,000.

7. LeMoyne-Owen College, Jeffery Higgs, LeMoyne-Owen College, 802 Walker Avenue, Suite 5, Memphis, TN 38126. Grant: $800,000.

8. Tennessee State University, Ginger Hausser-Pepper, Tennessee State University, 3500 John A Merritt Blvd., Campus Box 9503, Nashville, TN 37209. Grant: $800,000.

9. University of the Virgin Islands, Kathleen Davison, University of the Virgin Islands, # 2 John Brewer's Bay, St Thomas, VI, 00802. Grant: $794,220.

Region VI

10. Southern University at New Orleans, Cynthia Beaulieu, Southern University at New Orleans, 6400 Press Drive, New Orleans, LA, 70126. Grant: $703,604.

11. Southern University at Shreveport, Janice Sneed, Southern University at Shreveport, 3050 Martin Luther King Drive, Shreveport, LA, 71107. Grant: $800,000.

Region VI

12. Langston University, Linda Tillman, Langston University, 4205 North Lincoln Blvd., Oklahoma City, OK, 73105. Grant: $800,000.

Dated: September 4, 2009.
Raphael W. Bostic,
Assistant Secretary for Policy Development and Research.

[FR Doc. E9-23845 Filed 10-1-09; 8:45 am]

BILLING CODE 4210-67-P